DEPARTMENT OF HEALTH AND HUMAN SERVICES

Centers for Disease Control and Prevention

[60Day-21-21HJ; Docket No. CDC-2021-0085]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Field Pilot to Inform the Development of a NIOSH Training Product, the Safety Skills at Work Curriculum. The purpose of this field pilot is to inform the development of a draft foundational OSH training intervention, the Safety Skills at Work curriculum, as well as the study methods and data collection instruments for the evaluation of the intervention.

DATES: CDC must receive written comments on or before October 19, 2021.

ADDRESSES: You may submit comments, identified by Docket No. CDC-2021-0085 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Field Pilot to Inform the Development of a NIOSH Training Product, the Safety Skills at Work Curriculum—New—National Institute for Occupational Safety and Health (NIOSH), Centers for Disease Prevention and Control (CDC).

Background and Brief Description

The National Institute for Occupational Safety and Health (NIOSH) is requesting approval of a new draft data collection for a period of two years under the project titled Field Pilot to Inform the Development of a NIOSH Training Product, the Safety Skills at Work Curriculum. The goal of the proposed field pilot is to inform the development of a draft foundational occupational safety and health (OSH) training intervention, the Safety Skills at Work curriculum, as well as the development of the methods and data collection instruments for the evaluation of the intervention. The proposed field pilot will be conducted through a collaborative partnership with the Pacific Mountain Workforce Development Council (PacMtn WDC), a workforce development organization in Washington State. PacMtn WDC will recruit 72 participants split into 4-6 cohorts with 12-18 participants per cohort. For each cohort, the draft curriculum will be administered to 6-9 participants (training group) and an online survey will be administered to the training group as well as a group of 6-9 participants who do not receive the training (comparison group) at three time points: Pre (before the training), post (after the training), and follow-up (4-6 weeks after the training). The survey will assess; (1) foundational OSH knowledge; (2) OSH attitudes; (3) self-efficacy for OSH; (4) behavioral intention to use newly learned OSH skills; (5) OSH training perceptions; and (6) job safety perceptions. Basic demographics and work experience information will also be collected from field pilot participants, but no sensitive or personally identifiable information (PII) will be collected by NIOSH. Participants in the training group will be asked to provide reactions to the training during brief post-training feedback sessions, and this data will be audio recorded. This field pilot will follow the CDC COVID-19 interim guidance for research activities, including in-person activities, in place at the time of the activity. This data collection will serve as a first step in addressing the need for evidence-based, foundational OSH training programs for the workforce development sector, and is aligned with the National Occupational Research Agenda (NORA) Healthy Work Design and Well-Being, Services, and Manufacturing goals related to promoting OSH among contingent workers.

As part of the proposed field pilot, NIOSH will administer three online surveys (pre, post, and follow-up) to 72 workforce development program participants, and the two trained PacMtn WDC will conduct post-training feedback sessions with the 36 training group participants after each training session. Each survey will take approximately 30 minutes to complete, for a total of 90 minutes per participant to complete all three surveys. The training will take three hours and 20 minutes to administer, and the post training feedback session will take 10 minutes to complete.

CDC requests approval for an estimated 43 annual burden hours. There are no costs to respondents other than their time to participate.

Estimated Annualized Burden Hours
Type of respondents | Form name | Number of respondents | Number of responses per respondent | Average burden per response (in hours) | Total burden (in hours)
Workforce development program participant | Pre-survey | 34 | 1 | 30/60 | 17
Workforce development program participant | Post-survey | 29 | 1 | 30/60 | 15
Workforce development program participant | Follow-up Survey | 15 | 1 | 30/60 | 8
Workforce development program participant | Post training feedback session | 18 | 1 | 10/60 | 3
Total |  |  |  |  | 43

Jeffrey M. Zirger,
Lead, Information Collection Review Office, Office of Scientific Integrity, Office of Science, Centers for Disease Control and Prevention.

[FR Doc. 2021-17864 Filed 8-19-21; 8:45 am]

BILLING CODE 4163-18-P